DEPARTMENT OF COMMERCE

International Trade Administration

Export Trade Certificate of Review

ACTION: Correction to Notice of Application To Amend the Export Trade Certificate of Review Issued to U.S. Shippers Association.

SUMMARY: This document contains correction to the notice of application to amend the Export Trade Certificate of Review Issued to U.S. Shippers Association published in the Federal Register on Friday, September 14, 2007 (72 FR 52552). The notice of application should have also included the removal of Bayer CropScience from the Export Trade Certificate.

FOR FURTHER INFORMATION CONTACT: Jeffrey Anspacher, Director, Export Trading Company Affairs, International Trade Administration, (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Export Trading Company Affairs, International Trade Administration, U.S. Department of Commerce, Room 7021-X H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 85-13A18.” The U.S. Shippers Association's original Certificate was issued on June 3, 1986 (51 FR 20873, June 9, 1986), and last amended on April 6, 2006 (71 FR 18721, April 12, 2006). A summary of the current application for an amendment follows.

Summary of the Application

Applicant: U.S. Shippers Association (“USSA”), 3715 East Valley Drive, Missouri City, Texas 77459.

Contact: John S. Chinn, Project Director, Telephone: (734) 927-4328.

Application No.: 85-13A18.

Date Deemed Submitted: September 4, 2007.

Proposed Amendment: USSA seeks to amend its Certificate to:

Add each of the following companies and persons as a new “Member” of the Certificate within the meaning of section 325.2(1) of the Regulations (15 CFR 325.2(1)):

(a.) Taminco, Inc.; Taminco Higher Amines, Inc.; and Taminco Methylamines, Inc., each located in Allentown, PA, and

(b.) Salvatore Di Paola and Carrie M. Bowden, both of Missouri City, TX.

Delete the following company which has elected to leave the USSA as a “Member” of the certificate within the meaning of section 325.2(1) of the Regulations (15 CFR 325.2(1)):

(a) Bayer CropScience, located in Research Triangle Park, NC.

Dated: September 28, 2007.
Jeffrey C. Anspacher,
Director, Export Trading Company Affairs.

[FR Doc. E7-19585 Filed 10-3-07; 8:45 am]

BILLING CODE 3510-DR-P